DEPARTMENT OF AGRICULTURE

Grain Inspection, Packers and Stockyards Administration

United States Standards for Beans

AGENCY: Grain Inspection, Packers and Stockyards Administration, USDA.

ACTION: Notice.

SUMMARY: The Grain Inspection, Packers and Stockyards Administration (GIPSA) is removing the special grade designation “off-color” from the United States Standards for Beans. GIPSA will continue to offer assessments for color uniformity on a request basis. This action will facilitate the marketing of beans from many different regions.

EFFECTIVE DATE: April 20, 2005.

FOR FURTHER INFORMATION CONTACT: John Giler, Deputy Director, Field Management Division, USDA, GIPSA, Room 2429-S, Stop 3632, 1400 Independence Avenue, SW., Washington, DC 20250-3632, telephone (202) 720-0252; or e-mail to: John.C.Giler@usda.gov.

The final United States Standards for Beans will be available through the address cited above or by accessing the GIPSA Home Page on the Internet at http://www.usda.gov/gipsa/reference-library/standards/standards.htm.

SUPPLEMENTARY INFORMATION: Section 203(c) of the Agricultural Marketing Act of 1946, as amended, directs and authorizes the Secretary of Agriculture “to develop and improve standards of quality, condition, quantity, grade, and packaging and recommend and demonstrate such standards in order to encourage uniformity and consistency in commercial practices”. GIPSA is committed to carrying out this authority in a manner that facilitates the marketing of agricultural commodities.

The United States Standards for Beans do not appear in the Code of Federal Regulations but are maintained by the U.S. Department of Agriculture.

On December 17, 2004, GIPSA published a notice in the Federal Register, (69 FR 75504) requesting comments on removing “off-color” from the United States Standards for Beans. GIPSA proposed to change the United States Standards for Beans using the procedures that appear at 7 CFR Section 868.102. GIPSA representatives worked closely with the National Dry Bean Council (NDBC) and others in the bean industry to examine the effectiveness of the U.S. Standards for Beans in today's marketing environment. Through discussions, it appeared that the current standards continue to meet consumer/processor needs. However, the bean industry has indicated the special grade “off-color” in dry beans is not needed to market dry beans.

GIPSA received one comment from a bean industry association supporting the removal of “off-color” from the standards. Accordingly, GIPSA is removing the special grade designation “off-color” from the United States Standards for Beans. GIPSA will continue to offer assessments for color uniformity on a request only basis. This action will facilitate the marketing of beans from many different regions.

Authority: 7 U.S.C. 1621 et seq.

David R. Shipman,
Acting Administrator, Grain Inspection, Packers and Stockyards Administration.

[FR Doc. 05-5502 Filed 3-18-05; 8:45 am]

BILLING CODE 3410-EN-P